DEPARTMENT OF JUSTICE

Drug Enforcement Administration

[Docket No. 01-30]

Michael D. Jackson, M.D.; Revocation of Registration

On June 8, 2001, the then-Administrator of the Drug Enforcement Administration (DEA), issued an Order to Show Cause, Immediate Suspension of Registration to Michael Delano Jackson, M.D. (hereinafter referred to as “Respondent”) of the Myrtle Beach Medical Center in Myrtle Beach, South Carolina. The Order to Show Cause notified the Respondent of an opportunity to show cause as the why DEA should not revoke his DEA Certificate of Registration, BJ5063532 pursuant to 21 U.S.C. 824(a)(4) and deny any pending applications for renewal or modification of that registration pursuant to 21 U.S.C. 823(f), for reason that Respondent's continued registration with DEA would be inconsistent with the public interest.

Specifically, the Order to Show Cause outlined numerous allegations related to inter alia, the Respondent issuing various Schedules II through IV controlled substances for no legitimate medical purpose. Included among the drug purportedly prescribed in this fashion was OxyContin, a heavily abused Scheduled II narcotic controlled substance. The Order to Show Cause further notified the Respondent of the immediate suspension of his DEA Certificate of Registration, with the suspension to remain in effect until the final determination was reached in this matter.

By letter dated June 20, 2001, the Respondent acting pro se requested a hearing on the matter raised in the Order to Show Cause. Following the filing of various pre-hearing submissions by the respective parties, on May 22, 2002, the Government filed Government's Request for Stay of Proceedings and Motion for Summary Judgment (Motion). The Government asserted in its motion that the Respondent was without state authority to handle controlled substances in the State of South Carolina as well as in Alabama where he has apparently relocated his medical practice. On May 28, 2002, the presiding Administrative Law Judge Mary Ellen Bittner (Judge Bittner) issued a Memorandum to Counsel and Ruling on Motion affording the Respondent until June 11, 2002, to respond to the Government's Motion. However, the Respondent did not file a response.

On June 13, 2002, Judge Bittner issued her Opinion and Recommended Ruling of the Administrative Law Judge (Opinion and Recommended Ruling) where she granted the Government's Motion for Summary Disposition and found that the Respondent lacks authorization to handle controlled substances in South Carolina. In granting the Government's motion, Judge Bittner further recommended that the Respondent's DEA registration be revoked and any pending applications for modification or renewal be denied. Neither party filed exceptions to the Administrative Law Judge's Opinion and Recommended Decision, and on July 17, 2002, Judge Bittner transmitted the record of these proceedings to the Office of the Deputy Administrator. Following a review of the record in this proceeding, the Deputy Administrator now enters his final order pursuant to 21 CFR 1301.46.

The Deputy Administrator finds that the South Carolina Department of Health and Environmental Control (DHEC), Bureau of Drug Control, maintains a database of practitioners in South Carolina who possess valid state authority to handle controlled substances. On May 17, 2002, a DEA Diversion Investigator assigned to the agency's South Carolina District Office contacted DHEC and inquired whether the Respondent possessed state authority to handle controlled substances in that state. The investigator was informed that on June 14, 2001, DHEC revoked Respondent's state controlled substance license following the suspension of his DEA Certificate of Registration. DHEC divulged further that the Respondent surrendered his state medical license on June 29, 2001, and as a consequence, he lacks authority to handle controlled substances in South Carolina.

The Deputy Administrator's review of the records of the Alabama State Board of Medical Examiners reveals that the Respondent was also issued a controlled substance certificate in that state on June 29, 2001. That certificate expired on December 31, 2001. There is no evidence in the record that the Respondent's South Carolina medical license or his Alabama controlled substances certificate have been reinstated. It is clear that the Respondent lacks controlled substance authority in Alabama. In addition, since the Respondent is not currently authorized to practice medicine in the State of South Carolina, the Deputy Administrator finds it reasonable to infer that he is not authorized to handle controlled substances in that state as well.

DEA does not have statutory authority under the Controlled Substances Act to issue or maintain a registration if the applicant or registrant is without state authority to handle controlled substances in the state in which he conducts business. See 21 U.S.C. 802(21), 823(f) and 824(a)(3). This prerequisite has been consistently upheld. See Joseph Thomas Allevi, M.D., 67 FR 35581 (2002); Dominick A. Ricci, M.D., 58 FR 51104 (1993); Bobby Watts, M.D., 53 FR 11919 (1988).

Here, it is clear that the Respondent is not licensed to handle controlled substances in South Carolina where he is registered with DEA, or in Alabama, where he has apparently relocated his medical practice. Therefore, the Respondent is not entitled to maintain his DEA Certificate of Registration. Because he is not entitled to a DEA registration due to his lack of state authorization to handle controlled substances, the Deputy Administrator concludes that it is unnecessary to address whether the Respondent's registration should be revoked based upon the public interest grounds asserted in the Order to Show Cause. See Nathaniel-Aikens-Afful, M.D., 62 FR 16871 (1997).

Accordingly, the Deputy Administrator of the Drug Enforcement Administration, pursuant to the authority vested in him by 21 U.S.C. 823 and 824 and 28 CFR 0.100(b) and 0.104, hereby orders that DEA Certificate of Registration, BJ5063552, issued to Michael D. Jackson, M.D., be, and it hereby is, revoked. The Deputy Administrator further orders that any pending applications for renewal or modification of such registration be, and they hereby are, denied. This order is effective June 9, 2003.

Dated: April 21, 2003.
John B. Brown, III,
Deputy Administrator.

[FR Doc. 03-11433 Filed 5-7-03; 8:45 am]

BILLING CODE 4410-09-M